DEPARTMENT OF COMMERCE

International Trade Administration

[A-570-932]

Certain Steel Threaded Rod From the People's Republic of China: Preliminary Results of Antidumping Duty Administrative Review; 2011-2012

AGENCY: Import Administration, International Trade Administration, Department of Commerce.

SUMMARY: In response to requests from interested parties, the Department of Commerce (“Department”) is conducting an administrative review of the antidumping duty order on certain steel threaded rod from the People's Republic of China (“PRC”) for the period of review (“POR”) April 1, 2011, through March 31, 2012. The Department has preliminarily determined that RMB Fasteners Ltd., IFI & Morgan Ltd., and Jiaxing Brother Standard Part Co., Ltd. (collectively “the RMB/IFI Group”) sold subject merchandise in the United States at prices below normal value (“NV”).

DATES: Effective Date: April 9, 2013.

FOR FURTHER INFORMATION CONTACT: Julia Hancock or Jerry Huang, AD/CVD Operations, Office 9, Import Administration, International Trade Administration, Department of Commerce, 14th Street and Constitution Avenue NW., Washington, DC 20230; telephone: (202) 482-1394 or (202) 482-4047, respectively.

SUPPLEMENTARY INFORMATION:

Scope of the Order

The merchandise covered by the order includes steel threaded rod. The subject merchandise is currently classifiable under subheading 7318.15.5050, 7318.15.5090, and 7318.15.2095 of the United States Harmonized Tariff Schedule (“HTSUS”). Although the HTSUS subheading is provided for convenience and customs purposes, the written description of the merchandise is dispositive.¹

¹ See Certain Steel Threaded Rod from the People's Republic of China: Notice of Antidumping Duty Order, 74 FR 17154 (April 14, 2009) (“Order”). For a full description of the scope of the Order, see Memorandum from Edward C. Yang, Senior Director, China/Non-Market Economy Unit, to Paul Piquado, Assistant Secretary for Import Administration, “Decision Memorandum for Preliminary Results of Third Antidumping Duty Administrative Review: Certain Steel Threaded Rod from the People's Republic of China,” (“Preliminary Decision Memorandum”), dated April 2, 2013.

Preliminary Determination of No Reviewable Transactions

Certified Products International, Inc. (“CPI”) filed a timely no-shipment certification indicating that it had no shipments of subject merchandise to the United States during the POR. Subsequent to receiving CPI's no-shipment certification, the Department examined entry statistics obtained from U.S. Customs and Border Protection (“CBP”). The Department also issued no-shipment inquiries to CBP, asking it to respond only if it had information that the above-identified company may have shipped entries of subject merchandise during the POR. We did not receive any response from CBP, thus indicating that there were no entries of subject merchandise into the United States exported by CPI. After reviewing CPI's submission and the CBP information, we preliminarily determine that CPI did not have any reviewable transactions during the POR.

Additionally, Jiangxi Xinyue Standard Part Co., Ltd. (“Jiaxing Xinyue”) submitted a separate rate certification for this administrative review. However, the CBP data used for respondent selection indicate no entries of the subject merchandise were made by the Jiaxing Xinyue during the POR. Additionally, the CBP 7501 Forms provided by Jiaxing Xinyue's importer indicate that the entries of the merchandise that Jiaxing Xinyue claims were subject to the Order were not subject to antidumping duty liability. Because the entry data obtained from CBP show that Jiaxing Xinyue had no entries subject to antidumping duties during the POR, which is consistent with the information placed on the record by Jiaxing Xinyue, we preliminarily determine that Jiaxing Xinyue had no reviewable entries of subject merchandise during the POR.² Additionally, we intend to refer this matter to CBP to investigate whether Jiaxing Xinyue's entries were entered improperly.

² Citing Hubbell Power Systems, Inc. v. United States, Court No. 11-00474, Slip Op. 12-123 (Ct. Int'l Trade 2012) (“Hubbell”), Jiaxing Xinyue contends that its lack of suspended entries of subject merchandise during the POR should not affect the Department's evaluation of its separate rate certification. See Jiaxing Xinyue's October 26, 2012 Submission: Steel Threaded Rod from the PRC (October 26, 2012) at 1. However, unlike the respondent in Hubbell, Jiaxing Xinyue has previously established its eligibility for a separate rate. See Certain Steel Threaded Rod From the People's Republic of China: Final Results and Final Partial Rescission of Antidumping Duty Administrative Review, 76 FR 68400, 68402 (November 4, 2011). Moreover, the requirement for reviewable transactions is consistent with the retrospective nature of duty assessment under U.S. law and the stated purpose of administrative reviews to “review, and determine * * * the amount of any antidumping duty” to be assessed upon imports of subject merchandise entered during the applicable period of review. See section 751(a)(1)(B) of the Tariff Act of 1930, as amended (“the Act”); see also Dofasco Inc. v. United States, 390 F.3d 1370, 1372 (Fed. Cir. 2004) (stating that the purpose of the administrative review is to determine the duty liability for the review period).

Moreover, with respect to both CPI and Jiaxing Xinyue, the Department finds that consistent with its recently announced refinement to its assessment practice in non-market economy (“NME”) cases, as further discussed below, it is appropriate not to rescind the review, in part, in these circumstances but, rather, to complete the review with respect to these companies and issue appropriate instructions to CBP based on the final results of the review.³

³ See Non-Market Economy Antidumping Proceedings: Assessment of Antidumping Duties, 76 FR 65694 (October 24, 2011); see also “Assessment Rates” section below.

PRC-Wide Entity

In these preliminary results, 64 companies are not eligible for separate rate status or rescission, as they did not submit separate rate applications or certifications.⁴ As a result, these 64 companies are under review as part of the PRC-wide entity. For our determination with respect to the PRC-wide entity, see the Preliminary Decision Memorandum.

⁴ See Appendix II for the list of these companies.

On July 26, 2012, Vulcan Threaded Products Inc. (“Petitioner”) timely withdrew its request for review for five companies: (1) Autocraft Industry Ltd.; (2) Autocraft Industry (Shanghai) Ltd.; (3) Fuda Xiongzhen Machinery Co., Ltd.; (4) Shanghai Furen International Trading; and (5) Shanghai Printing and Packaging Machinery Corp. No other party requested a review on these five companies.

For those five companies for which a review was initiated, for which all review requests have been withdrawn, and which previously received separate rate status in a prior segment of this case, it is the Department's practice to rescind the administrative review, in accordance with 19 CFR 351.213(d)(1). However, none of these five companies have a separate rate. While the requests for review of these companies were timely withdrawn, those companies remain a part of the PRC-wide entity. The PRC-wide entity is under review for these preliminary results. Thus, we are not rescinding this review with respect to these companies at this time, but the Department will make a determination with respect to the PRC-wide entity at the conclusion of these preliminary results and final results.⁵

⁵ See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010-2011, 78 FR 10130 (February 13, 2013).

Methodology

The Department has conducted this review in accordance with section 751(a)(1)(A) of the Act. Constructed export prices (“CEP”) have been calculated in accordance with section 772 of the Act. Because the PRC is an NME within the meaning of section 771(18) of the Act, NV has been calculated in accordance with section 773(c) of the Act. Specifically, the RMB/IFI Group's factors of production (“FOPs”) have been valued in Thai surrogate value data. Thailand is economically comparable to the PRC and is a significant producer of comparable merchandise. To determine the appropriate comparison method, the Department applied a “differential pricing” analysis and has preliminarily determined to use the average-to-average method in making comparisons of export price or CEP and NV for the RMB/IFI Group. For a full description of the methodology underlying our conclusions, see the Preliminary Decision Memorandum, which is hereby adopted by this notice. The Preliminary Decision Memorandum is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Preliminary Decision Memorandum can be accessed directly on the internet at http://www.trade.gov/ia/. The signed Preliminary Decision Memorandum and the electronic versions of the Preliminary Decision Memorandum are identical in content.

Intent Not To Revoke Order in Part

We preliminarily find that the RMB/IFI Group has not satisfied the requirements of 19 CFR 351.222(b).⁶ Thus, under section 751 of the Act, we preliminarily determine not to revoke in part the order with respect to the RMB/IFI Group.⁷

⁶ The Department recently published a final rule amending this section of its regulations concerning the revocation of antidumping and countervailing duty order in whole or in part, but that final rule does not apply to this administrative review. See Modification to Regulation Concerning the Revocation of Antidumping and Countervailing Duty Order, 77 FR 29875 (May 21, 2012). Reference to 19 CFR 351.222(b) thus refers to the Department's regulations in effect prior to June 20, 2012.

⁷ See Preliminary Decision Memorandum.

Preliminary Results of Review

The Department preliminarily determines that the following weighted-average dumping margins exist.

Exporter | Weighted average dumping margin
Jiaxing Brother Standard Part Co., Ltd., IFI & Morgan Ltd. and RMB Fasteners Ltd. (collectively “RMB/IFI Group”) | 20.05
Zhejiang New Oriental Fastener Co., Ltd. | *20.05
Certified Products International, Inc. | **
Jiangxi Xinyue Standard Part Co. Ltd. | **
PRC-wide Entity | 206.00
* This company applied for or demonstrated eligibility for a separate rate in this administrative review. See Preliminary Decision Memorandum. The rate for this company is the calculated antidumping duty rate for the RMB/IFI Group.
** No reviewable shipments or sales subject to this review. The firms have either an individual rate or a separate rate from the last segment of the proceeding in which they had reviewable shipments or sales.

Disclosure and Public Comment

The Department will disclose the calculations used in our analysis to parties in this review within five days of the date of publication of this notice. Interested parties who wish to request a hearing, or to participate if one is requested, must submit a written request to the Assistant Secretary for Import Administration, U.S. Department of Commerce, filed electronically using IA ACCESS. An electronically filed document must be received successfully in its entirety by the Department's electronic records system, IA ACCESS, by 5 p.m. Eastern Time within 30 days after the date of publication of this notice.⁸ Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined. Parties should confirm by telephone the date, time, and location of the hearing. Interested parties are invited to comment on the preliminary results of this review.

⁸ See 19 CFR 351.310(c).

The Department will consider case briefs filed by interested parties within 30 days after the date of publication of this notice in the Federal Register.⁹ Interested parties may file rebuttal briefs, limited to issues raised in the case briefs.¹⁰ The Department will consider rebuttal briefs filed not later than five days after the time limit for filing case briefs. Parties who submit arguments are requested to submit with each argument a statement of the issue, a brief summary of the argument, and a table of authorities cited. The Department intends to issue the final results of this administrative review, including the results of our analysis of issues raised in the written comments, within 120 days of publication of these preliminary results in the Federal Register.

⁹ See 19 CFR 351.309(c)(1)(ii).

¹⁰ See 19 CFR 351.309(d).

Deadline for Submission of Publicly Available Surrogate Value Information

In accordance with 19 CFR 351.301(c)(3)(ii), the deadline for submission of publicly available information to value FOPs under 19 CFR 351.408(c) is 20 days after the date of publication of the preliminary results. In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department generally will not accept in the rebuttal submission additional or alternative surrogate value information not previously on the record, if the deadline for submission of surrogate value information has passed.¹¹ Furthermore, the Department generally will not accept business proprietary information in either the surrogate value submissions or the rebuttals thereto, as the regulation regarding the submission of surrogate values allows only for the submission of publicly available information.¹²

¹¹ See e.g., Glycine from the People's Republic of China: Final Results of Antidumping Duty Administrative Review and Final Rescission, in Part, 72 FR 58809 (October 17, 2007) and accompanying Issues and Decision Memorandum at Comment 2.

¹² See 19 CFR 351.301(c)(3).

Assessment Rates

Upon issuance of the final results, the Department will determine, and CBP shall assess, antidumping duties on all appropriate entries covered by this review.¹³ The Department intends to issue assessment instructions to CBP 15 days after the publication date of the final results of this review. For any individually examined respondent whose weighted average dumping margin is above de minimis (i.e., 0.50 percent) in the final results of this review, the Department will calculate importer-specific assessment rates on the basis of the ratio of the total amount of dumping calculated for the importer's examined sales and the total entered value of sales, in accordance with 19 CFR 351.212(b)(1).¹⁴ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties. For those companies not assigned a separate rate from a prior segment of the proceeding, the Department has stated that they are not separate from the PRC-wide entity and that the administrative review will continue for these companies.¹⁵

¹³ See 19 CFR 351.212(b).

¹⁴ In these preliminary results, the Department applied the assessment rate calculation method adopted in Antidumping Proceedings: Calculation of the Weighted-Average Dumping Margin and Assessment Rate in Certain Antidumping Proceedings: Final Modification, 77 FR 8101 (February 14, 2012).

¹⁵ See Appendix I.

The Department recently announced a refinement to its assessment practice in NME cases. Pursuant to this refinement in practice, for entries that were not reported in the U.S. sales databases submitted by companies individually examined during this review, the Department will instruct CBP to liquidate such entries at the PRC-wide rate. Additionally, if the Department determines that an exporter had no shipments of the subject merchandise, any suspended entries that entered under that exporter's case number (i.e., at that exporter's rate) will be liquidated at the PRC-wide rate.¹⁶

¹⁶ For a full discussion of this practice, see Non-Market Economy Antidumping Proceedings: Assessment of Antidumping Duties, 76 FR 65694 (October 24, 2011).

The final results of this review shall be the basis for the assessment of antidumping duties on entries of merchandise covered by the final results of this review and for future deposits of estimated duties, where applicable.

Cash Deposit Requirements

The following cash deposit requirements will be effective upon publication of the final results of this administrative review for shipments of the subject merchandise from the PRC entered, or withdrawn from warehouse, for consumption on or after the publication date, as provided by sections 751(a)(2)(C) of the Act: (1) For the exporters listed above, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: April 2, 2013.
Paul Piquado,
Assistant Secretary for Import Administration.

Appendix I

Exporter

Billion Land Ltd.

China Brother Holding Group Co. Ltd.

China Jiangsu International Economic Technical

Dongxiang Accuracy Hardware Co., Ltd.

EC International (Nantong) Co. Ltd.

Fastwell Industry Co. Ltd.

Fuller Shanghai Co. Ltd.

Gem-Year Industrial Co. Ltd.

Haiyan Dayu Fasteners Co., Ltd.

Haiyan Hurras Import & Export Co. Ltd.

Haiyan Hurras Import Export Co. Ltd.

Haiyan Jianhe Hardware Co. Ltd.

Haiyan Julong Standard Part Co. Ltd.

Hangzhou Grand Imp. & Exp. Co., Ltd.

Jiangsu Dainan Zhenya Import & Export Co. Ltd.

Jiangsu Zhenya Special Screw Co., Ltd.

Jiashan Zhongsheng Metal Products Co., Ltd.

Jiaxing China Industrial Imp & Exp Co. a/k/a Jiaxing Cnindustrial Imp. & Exp. Co., Ltd.

Jiaxing SINI Fastener Co., Ltd.

Jiaxing Wonper Imp. & Exp. Co. Ltd.

Nanjing Prosper Import & Export Corporation Ltd.

Ningbiao Bolts & Nuts Manufacturing Co.

Ningbo Baoli Machinery Manufacture Co., Ltd.

Ningbo Beilun Milfast Metalworks Co. Ltd.

Ningbo Dexin Fastener Co. Ltd.

Ningbo Dongxin High-Strength Nut Co., Ltd.

Ningbo Fastener Factory.

Ningbo Grand Asia Import & Export Co., Ltd.

Ningbo Healthy East Import & Export.

Ningbo Jinding Fastening Piece Co., Ltd.

Ningbo Pal International Trading Co.

Ningbo Qunli Fastener Manufacture Co., Ltd.

Ningbo Shuanglin Auto Parts Co., Ltd.

Ningbo Shuanglin Industry Manufacturing Ltd.

Ningbo Xiangxiang Large Fasteners.

Ningbo XinXing Fasteners Manufacture Co., Ltd.

Ningbo Yinzhou Foreign Trade Co., Ltd.

Ningbo Yinzhou JH Machinery Co.

Ningbo Zhenghai Youngding Fastener Co., Ltd.

Ningbo Zhongjiang Petroleum Pipes & Machinery Co., Ltd.

Panther T&H Industry Co. Ltd.

PSGT Trading Jingjiang Ltd.

Qingdao Free Trade Zone Health Intl.

Shanghai East Best Foreign Trade Co.

Shanghai East Best International Business Development

Shanghai Fortune International Co. Ltd.

Shanghai Nanshi Foreign Economic Co.

Shanghai Overseas International Trading Co. Ltd.

Shanghai P&J International Trading Co., Ltd.

Shanghai Prime Machinery Co. Ltd.

Shanghai Printing & Dyeing and Knitting Mill.

Shanghai Recky International Trading Co., Ltd.

Suntec Industries Co., Ltd.

T and C Fastener Co. Ltd.

Tandem Industrial Co., Ltd.

Tong Ming Enterprise.

Wisechain Trading Ltd.

Xingtai City Xinxing Fasteners Co.

Zhejiang Artex Arts and Crafts.

Zhejiang Guangtai Industry and Trade.

Zhejiang Heiter Industries Co., Ltd.

Zhejiang Heiter MFG & Trade Co. Ltd.

Zhejiang Morgan Brother Technology Co. Ltd.

[FR Doc. 2013-08243 Filed 4-8-13; 8:45 am]

BILLING CODE 3510-DS-P